DEPARTMENT OF TRANSPORTATION

Federal Aviation Administration

14 CFR Part 39

[Docket No. FAA-2014-0143; Directorate Identifier 2012-NM-113-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 B4-603, B4-620, B4-622, B4-605R, B4-622R; F4-605R, F4-622R and C4-605R variant F airplanes. This proposed AD was prompted by reports of cracks in the frame base fittings connecting the frame lower positions to the center wing box. This proposed AD would require repetitive detailed inspections of the lower frame fittings, related investigative actions, and corrective actions if necessary. We are proposing this AD to detect and correct cracking on the lower frame fittings, which could reduce the structural integrity of the airplane.

DATES: We must receive comments on this proposed AD by May 5, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0143; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0143; Directorate Identifier 2012-NM-113-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the technical agent for the Member States of the European Community, has issued EASA Airworthiness Directive 2012-0103, dated June 11, 2012 (corrected June 19, 2012) (referred to after this as the Mandatory Continuing Airworthiness Information, or “the MCAI”), to correct an unsafe condition for the specified products. The MCAI states:

During maintenance checks, cracks were discovered by A300 and A300-600 operators in the frame [base] feet fittings, connecting the frame lower positions to the centre wing box.

These occurrences were followed by a dedicated sampling inspection programme carried out by Airbus. During this sampling programme, 22 A300-600 aeroplanes were found with cracks on the lower fittings of frame 44 to frame 46 left hand (LH) and right hand (RH) side.

This condition, if not detected and corrected, could affect the structural integrity of the fuselage of all aeroplanes operated up to the extended service goal (ESG).

For the reasons described above, this [EASA] AD requires repetitive detailed visual inspections [for discrepancies (cracking)] of the lower frame fittings between frame 41 and frame 46 and, depending on findings, accomplishment of a repair.

This [EASA] AD has been republished to correct Note 2 in Appendix 1.

Related investigative actions include doing a rotating probe inspection for cracking of the crack stop hole. Corrective actions include repairing or replacing cracking and cracked base fittings. You may examine the MCAI in the AD docket on the Internet at http://www.regulations.gov by searching for and locating it in Docket No. FAA-2014-0143.

Relevant Service Information

Airbus has issued Mandatory Service Bulletin A300-53-6111, Revision 05, including Appendix 01, dated January 28, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve required repairs for this proposed AD.

Differences Between This Proposed AD and the MCAI or Service Information

Unlike the procedures described in Airbus Mandatory Service Bulletin A300-53-6111, Revision 05, including Appendix 01, dated January 28, 2013; this proposed AD would not permit further flight if discrepancies (cracking or cracked frames) are detected in the base fitting of the left-hand and right-hand frames 41 to 46 of the fuselage. We have determined that, because of the safety implications and consequences associated with that cracking, any cracked frame must be repaired or modified before further flight. This difference has been coordinated with EASA.

Airbus Mandatory Service Bulletin A300-53-6111, Revision 05, including Appendix 01, dated January 28, 2013, does not provide corrective action for cracking that measures 20 mm. This AD would require repairing the cracking using a method approved by the Manager, International Branch, ANM-116, Transport Airplane Directorate, FAA; or European Aviation Safety Agency (EASA), or its delegated agent, or the Design Approval Holder with EASA's design organization approval, as applicable.

Costs of Compliance

We estimate that this proposed AD affects 124 airplanes of U.S. registry.

We also estimate that it would take about 4 work-hours per product to comply with the basic requirements of this proposed AD. The average labor rate is $85 per work-hour. Required parts would cost about $0 per product. Based on these figures, we estimate the cost of this proposed AD on U.S. operators to be $340, or $42,160 per product.

In addition, we estimate that any necessary follow-on actions would take about 348 work-hours and require parts costing $61,810, for a cost of $91,390 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Airbus: Docket No. FAA-2014-0143; Directorate Identifier 2012-NM-113-AD.

(a) Comments Due Date

We must receive comments by May 5, 2014.

(b) Affected ADs

None.

(c) Applicability

This AD applies to Airbus Model A300 B4-603, B4-620, B4-622, B4-605R, B4-622R; F4-605R, F4-622R and C4-605R variant F airplanes; certificated in any category; all serial numbers.

(d) Subject

Air Transport Association (ATA) of America Code 53, Fuselage.

(e) Reason

This AD was prompted by reports of cracks in the frame base fittings connecting the frame lower positions to the center wing box. We are issuing this AD to detect and correct cracking on the lower frame fittings, which could reduce the structural integrity of the airplane.

(f) Compliance

Comply with this AD within the compliance times specified, unless already done.

(g) Inspection and Corrective Actions

At the applicable time specified in paragraphs (g)(1) through (g)(4) of this AD, do a detailed inspection for discrepancies (cracking) of the base fitting of the left-hand and right-hand frames 41 to 46 of the fuselage, and do all applicable related investigative actions and corrective actions, in accordance with the Accomplishment Instructions of Airbus Mandatory Service Bulletin A300-53-6111, Revision 05, dated January 28, 2013, except as required by paragraph (k) of this AD. Do all applicable related investigative actions and corrective actions before further flight. Repeat the inspections at the applicable time specified in paragraphs (h)(1) through (h)(4) of this AD.

(1) For any frame on which no affected repairs specified in paragraph (i) of this AD have been accomplished as of the effective date of this AD, and the airplane has operated with an average flight time (AFT) of more than 1.5 hours: At the later of the times specified in paragraphs (h)(1)(i) and (h)(1)(ii) of this AD.

(i) Within 5,000 flight cycles (FC) or 10,800 flight hours, whichever occurs first, since airplane first flight.

(ii) Within 1,000 flight cycles after the effective date of this AD.

(2) For any frame on which no affected repairs specified in paragraph (i) of this AD have been accomplished as of the effective date of this AD, and the airplane has operated with an AFT of equal to or less than 1.5 hours: At the later of the times specified in paragraphs (h)(2)(i) and (h)(2)(ii) of this AD.

(i) Within 5,400 flight cycles or 8,100 flight hours, whichever occurs first since airplane first flight.

(ii) Within 1,000 flight cycles after the effective date of this AD.

(3) For any frame on which any of the affected repairs specified in paragraph (i) of this AD have been accomplished as of the effective date of this AD, and the airplane has operated with an AFT of more than 1.5 hours: At the later of the times specified in paragraphs (h)(3)(i) and (h)(3)(ii) of this AD.

(i) Within 45,400 flight cycles or 98,000 flight hours, whichever occurs first since frame repair embodiment.

(ii) Within 1,000 flight cycles after the effective date of this AD.

(4) For any frame on which any of the affected repairs specified in paragraph (i) of this AD have been accomplished as of the effective date of this AD, and the airplane operated with an AFT of equal to or less than 1.5 hours: At the later of the times specified in paragraphs (h)(4)(i) and (h)(4)(ii) of this AD.

(i) Within 49,000 flight cycles or 73,500 flight hours, whichever occurs first since frame repair embodiment.

(ii) Within 1,000 flight cycles after the effective date of this AD.

(h) Repetitive Inspection Compliance Times

(1) For any frame on which no affected repairs specified in paragraph (i) of this AD have been accomplished as of the effective date of this AD, and the airplane has operated with an AFT of more than 1.5 hours: Inspect within 3,200 flight cycles or 7,000 flight hours, whichever occurs first.

(2) For any frame on which no affected repairs specified in paragraph (i) of this AD have been accomplished as of the effective date of this AD, and the airplane operated with an AFT of equal to or less than 1.5 hours: Inspect within 3,500 flight cycles or 5,300 flight hours, whichever occurs first since airplane first flight.

(3) For any frame on which any of the affected repairs specified in paragraph (i) of this AD have been accomplished as of the effective date of this AD and the airplane operated with an AFT of more than 1.5 hours: Inspect within 45,400 flight cycles or 98,000 flight hours, whichever occurs first since frame repair embodiment.

(4) For any frame on which any of the affected repairs specified in paragraph (i) of this AD have been accomplished as of the effective date of this AD, and the airplane operated with an AFT of equal to or less than 1.5 hours: Inspect within 49,000 flight cycles or 73,500 flight hours, whichever occurs first, since frame repair embodiment.

(i) Definition of Affected Repairs

For the purposes of this AD, affected repairs are R53810322, R53810323, R53810329, R53810330, R53810331, R53810332, and any repair specified in Airbus Mandatory Service Bulletin A300-53-6111, Revision 05, including Appendix 01, dated January 28, 2013, as well as repairs accomplished in accordance with Airbus Mandatory Service Bulletin A300-53-6111, any revision.

(j) Definition of Average Flight Time (AFT)

For the purposes of this AD, the AFT is defined as a computation of the number of flight hours divided by the number of flight cycles accumulated since last inspection, or since airplane first flight, as applicable.

(k) Exceptions to Service Information Specifications

Where Airbus Mandatory Service Bulletin A300-53-6111, Revision 05, including Appendix 01, dated January 28, 2013, does not specify action for a repair that measures 20 mm, if during any inspection required by paragraph (g) of this AD cracking is found that measures 20 mm, before further flight, repair using a method approved by the Manager, International Branch, ANM-116, Transport Airplane Directorate, FAA; or European Aviation Safety Agency (EASA) (or its delegated agent, or the Design Approval Holder with EASA's design organization approval, as applicable). For a repair method to be approved, the repair approval must specifically refer to this AD.

(l) Reporting of Inspection Results

At the applicable time specified in paragraphs (l)(1) and (l)(2) of this AD: After accomplishment of any inspection specified in paragraph (g) of this AD, report discrepancies (cracking) to Airbus, in accordance with Appendix 01 of Airbus Mandatory Service Bulletin A300-53-6111, Revision 05, dated January 28, 2013.

(1) If the inspection was done on or after the effective date of this AD: Submit the report within 30 days after the inspection.

(2) If the inspection was done before the effective date of this AD: Submit the report within 30 days after the effective date of this AD.

(m) Clarification

Accomplishment of corrective action(s) as required by paragraph (g) of this AD does not constitute terminating action for the repetitive inspections required by paragraph (h) of this AD.

(n) Credit for Previous Actions

This paragraph provides credit for the actions required by paragraph (g) of this AD, if those actions were performed before the effective date of this AD using Airbus Mandatory Service Bulletin A300-53-6111, Revision 04, including Appendix 01, dated August 25, 2011, which is not incorporated by reference in this AD.

(o) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Related Information

(1) Refer to Mandatory Continuing Airworthiness Information (MCAI) EASA Airworthiness Directive 2012-0103, dated June 11, 2012, (corrected June 19, 2012) for related information. This MCAI may be found in the AD docket on the Internet at http://www.regulations.gov by searching for and locating it in Docket No. FAA-2014-0143.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 7, 2014.
Michael J. Kaszycki,
Acting Manager, Transport Airplane Directorate, Aircraft Certification Service.

[FR Doc. 2014-06009 Filed 3-18-14; 8:45 am]

BILLING CODE 4910-13-P